FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 8, 2016.

A. Federal Reserve Bank of San Francisco (Gerald C. Tsai, Director, Applications and Enforcement) 101 Market Street, San Francisco, California 94105-1579:

1. The Marvin L. Oates Trust dated March 7, 1995 (Philip D. Oates, Kathryn Oates Fairrington and Larry E. Allbaugh, co-trustees); Philip D. Oates and Jana Oates; the QSST Subtrust of the Marvilyn E. Applegate Irrevocable Trust dated December 16, 2009; the QSST Subtrust of the Kathryn Oates-Fairrington Irrevocable Trust dated December 16, 2009; the QSST Subtrust of the Philip D. Oates Irrevocable Trust dated December 16, 2009; and the QSST Subtrust of the Judy Oates-Holt Irrevocable Trust dated December 16, 2009, all of Sacramento, California; (Larry E. Allbaugh, independent trustee of each QSST Subtrust); the Applegate Family Revocable 1991 Trust (James C. Applegate and Marvilyn E. Applegate, as co-trustees), Judy S. Oates-Holt; all of Granite Bay, California; Gregory Fairrington and Kathryn Oates Fairrington, all of Rocklin, California; Ricky W. Massie and Debra L. Massie, the Clara K. Massie Family Trust established May 1, 1997 (Clara K. Massie, trustee), all of Loomis, California; and the LA Five Star Trust dated December 15, 2015 (Larry E. Allbaugh and Laura Allbaugh, co-trustees), all of Folsom, California; to retain voting shares of Five Star Bancorp, Sacramento, California, and thereby indirectly retain voting shares of Five Star Bank, Rocklin, California.

Board of Governors of the Federal Reserve System, February 17, 2016.
Michael J. Lewandowski,
Associate Secretary of the Board.

[FR Doc. 2016-03569 Filed 2-19-16; 8:45 am]

BILLING CODE 6210-01-P